FEDERAL COMMUNICATIONS COMMISSION

Notice of Public Information Collection(s) Being Reviewed by the Federal Communications Commission, Comments Requested

January 4, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees. The FCC may not conduct or sponsor a collection of information unless it displays a currently valid control number. No person shall be subject to any penalty for failing to comply with a collection of information subject to the Paperwork Reduction Act (PRA) that does not display a valid OMB control number.

DATES: Written Paperwork Reduction Act (PRA) comments should be submitted on or before March 14, 2011. If you anticipate that you will be submitting comments, but find it difficult to do so within the period of time allowed by this notice, you should advise the contact listed below as soon as possible.

ADDRESSES: Direct all PRA comments to PRA@fcc.gov and Cathy.Williams@fcc.gov. Include in the e-mail the OMB control number of the collection. If you are unable to submit your comments by e-mail contact the person listed below to make alternate arrangements.

FOR FURTHER INFORMATION CONTACT: For additional information, contact Cathy Williams on (202) 418-2918.

SUPPLEMENTARY INFORMATION: OMB Control Number: 3060-1111.

Title: Sections 225 and 255, Interconnected Voice over Internet Protocol Services (VoIP).

Form Number: N/A.

Type of Review: Extension of a currently approved collection.

Respondents: Business or other for-profit entities.

Number of Respondents and Responses: 2,301 respondents and 30,841 responses.

Estimated Time per Response: .25-25 hours.

Frequency of Response: Annual, on occasion, and one-time reporting requirements; Recordkeeping requirement; Third party disclosure requirement.

Obligation to Respond: Required to obtain or retain benefits. The statutory authority for the information collection requirements is contained in Section 225 of the Communications Act of 1934, as amended (Act) [47 U.S.C. 225], Telecommunications Services for Hearing-Impaired and Speech-Impaired Individuals; the Americans with Disabilities Act of 1990, Public Law 101-336, 104 stat. 327, 336-69, enacted on July 26, 1990; Section 255 [47 U.S.C. 255] Access By Persons with Disabilities, Public Law 104-104, 110 Stat. 56, added to the Act by the Telecommunications Act of 1996; and section 4(i) of the Act, 47 U.S.C. 154(i).

Total Annual Burden: 33,200 hours.

Total Annual Cost: $3,171,000.

Nature and Extent of Confidentiality: Confidentiality is an issue to the extent that individuals and households provide personally identifiable information, which is covered under the FCC's system of records notice (SORN), FCC/CGB-1, “Informal Complaints and Inquiries.” As required by the Privacy Act, 5 U.S.C. 552a, the Commission published revisions to the SORN in the Federal Register on December 15, 2009 (74 FR 66356), and they became effective on January 25, 2010.

Privacy Impact Assessment: Yes. The Privacy Impact Assessment (PIA) was completed on June 28, 2007. It may be reviewed at: http://www.fcc.gov/omd/privacyact/Privacy_Impact_Assessment.html. The Commission is in the process of updating the PIA to incorporate various revisions made to the SORN.

Needs and Uses: On June 15, 2007, the Commission released a Report and Order, IP-Enabled Services; Implementation of Sections 255 and 251(a)(2) of the Communications Act of 1934, as Enacted by the Telecommunications Act of 1996: Access to Telecommunications Service, Telecommunications Equipment and Customer Premises Equipment by Persons with Disabilities; Telecommunications Relay Services and Speech-to-Speech Services for Individuals with Hearing and Speech Disabilities; and the Use of N11 Codes and Other Abbreviated Dialing Arrangements, FCC 07-110, published at 72 FR 43546, August 6, 2007. FCC 07-110 extended the disability access requirements that apply to telecommunications service providers and equipment manufacturers under section 255 of the Act, to providers of “interconnected voice over Internet Protocol (VoIP) services,” as defined by the Commission, and to manufacturers of specially designed equipment used to provide those services. In addition, the Commission extended the Telecommunications Relay Services requirements contained in its regulations, pursuant to section 225 of the Act, to interconnected VoIP providers. As applied to interconnected VoIP providers and to manufacturers of specialized VoIP equipment, several requirements adopted in FCC 07-110 contain information collection requirements. In particular, the following rules, as applied to interconnected VoIP providers and to manufacturers of specialized VoIP equipment and customer premises equipment, contain information collection requirements: 47 CFR 6.11(a), 6.11(b), 6.18(b), 6.19, 64.604(a)(5), 64.604(c)(1)(i), 64.604(c)(1)(ii), 64.604(c)(2), 64.604(c)(3), 64.604(c)(5)(iii)(C), 64.604(c)(5)(iii)(E), 64.604(c)(5)(iii)(G), 64.604(c)(6)(v)(A)(3), 64.604(c)(6)(v)(G), 64.604(c)(7), and 64.607(b).

Federal Communications Commission.
Marlene H. Dortch,
Secretary.

[FR Doc. 2011-564 Filed 1-12-11; 8:45 am]

BILLING CODE 6712-01-P